DEPARTMENT OF AGRICULTURE

Farm Service Agency

[Docket ID: FSA-20210-0001]

Information Collection Request; Emergency Conservation Program (ECP) and Biomass Crop Assistance Program (BCAP)

AGENCY: Farm Service Agency, USDA.

ACTION: Notice; request for comments.

SUMMARY: In accordance with the Paperwork Reduction Act of 1995, as amended, the Farm Service Agency (FSA) is requesting comments from all interested individuals and organizations on an extension with a revision of currently approved information collection associated with the Emergency Conservation Program (ECP) and Biomass Crop Assistance Program (BCAP). This information is collected in support of, respectively, sections 401-407 of the Agricultural Credit Act of 1978, as amended, and section 9011 of the Farm Security and Rural Investment Act of 2002, as amended.

DATES: We will consider comments that we receive by April 13, 2021.

ADDRESSES: We invite you to submit comments on this Notice. You may submit comments, identified by Docket ID: FSA-2021-0001, by any of the following methods:

• Federal eRulemaking Portal: Go to: www.regulations.gov. Follow the online instructions for submitting comments.

• Mail, Hand Delivery, or Courier: Shanita Landon, ECP Program Manager, Conservation and Environmental Programs Division, Farm Service Agency, United States Department of Agriculture, STOP 0513, 1400 Independence Avenue SW, Washington, DC 20250-0513.

You may also send comments to the Desk Officer for Agriculture, Office of Information and Regulatory Affairs, Office of Management and Budget, Washington, DC 20503. Copies of the information collection may be requested by contacting Martin Bomar.

FOR FURTHER INFORMATION CONTACT: For specific questions related to collection activities, Shanita London, (202) 690-1612 (voice); email: shanita.landon@usda.gov. Persons with disabilities who require alternative means for communication should contact the USDA Target Center at (202) 720-2600 (voice).

SUPPLEMENTARY INFORMATION:

Description of Information Collection

Title: Emergency Conservation Program and Biomass Crop Assistance Program.

OMB Control Number: 0560-0082.

Expiration Date: April 30, 2021.

Type of Request: Revision.

Abstract: The collection of this information is necessary to allow FSA to:

(1) Effectively administer the regulations under ECP, which are set forth at 7 CFR part 701, so as to provide funding and technical assistance for farmers and ranchers to restore farmland damaged by natural disasters, and for emergency water conservation measures in severe droughts; and

(2) Effectively administer the regulations for BCAP, which are set forth at 7 CFR part 1450, so as to provide financial assistance to owners and operators of agricultural and non-industrial private forest land who wish to establish, produce, and deliver biomass feedstocks.

This information is collected in support of, respectively, sections 401-407 of the Agricultural Credit Act of 1978 (Pub. L. 95-334), as amended, and section 9011 of the Farm Security and Rural Investment Act of 2002 (Pub. L. 107-171), as amended.

Activity related to ECP request, approvals, and payments has increased due to major storm systems that caused catastrophic damage across the nation, from 2018-2020. Hurricane Michael and Florence occurred in 2018, followed by the Midwest flooding's in 2019. Multiple hurricanes and wildfires in 2020 all contribute to the increase in activity. Activity related to BCAP has drastically reduced because of the lack of funding for BCAP. The travel times also have been removed from the request.

For the following estimated total annual burden on respondents, the formula used to calculate the total burden hours is the estimated average time per response multiplied by the estimated total annual of responses.

Estimate of Average Time to Respond: Public reporting burden for collecting information under this notice is estimated to average 0.116 hours per responses, including the time for reviewing instructions, searching existing data sources, gathering and maintaining the data needed, completing and reviewing the collection of information for all respondents.

Type of Respondents: Owners, operators and other eligible agricultural producers on eligible farmland.

Estimated Number of Respondents: 140,000.

Estimated Number of Responses per Respondent: 3.04.

Estimated Total Annual Reponses: 425,445.

Estimated Average Time per Response: 0.116 hours.

Estimated Total Annual Burden on Respondents: 49,385 hours.

We are requesting comments on all aspects of this information collection to help us to:

(1) Evaluate whether the proposed collection of information is necessary for the proper performance of the functions of the agency, including whether the information will have practical utility;

(2) Evaluate the accuracy of the agency's estimate of the burden of the collection of information, including the validity of the methodology and assumptions used;

(3) Evaluate the quality, ability and clarity of the information technology; and

(4) Minimize the burden of the information collection on those who respond through the use of appropriate automated, electronic, mechanical, or other technological collection techniques or other forms of information.

All responses to this notice, including names and addresses when provided, will be summarized and included in the request for OMB approval. All comments will also become a matter of public record.

Steven Peterson,
Acting Administrator, Farm Service Agency.

[FR Doc. 2021-02860 Filed 2-11-21; 8:45 am]

BILLING CODE 3410-05-P